ENVIRONMENTAL PROTECTION AGENCY

[FRL-7602-4]

Board of Scientific Counselors, Executive Committee Meeting

AGENCY: Environmental Protection Agency (EPA).

ACTION: Notice of meeting.

SUMMARY: Pursuant to the Federal Advisory Committee Act, Pub. L. 92-463, the Environmental Protection Agency, Office of Research and Development (ORD), gives notice of an Executive Committee Meeting of the Board of Scientific Counselors (BOSC).

DATES: The meeting will be held on Thursday, January 22, 2004, from 8:30 a.m. to 5 p.m., and on Friday, January 23, 2004, from 8:30 a.m. to 2 p.m. All times noted are Eastern Time. The meeting may adjourn early on Friday if all business is finished.

ADDRESSES: The meeting will be held at the Lowes L'Enfant Plaza Hotel, 480 L'Enfant Plaza SW., Washington, DC 20024.

FOR FURTHER INFORMATION CONTACT: Lorelei Kowalski, Designated Federal Officer, Environmental Protection Agency, Office of Research and Development, Office of Science Policy Mail Code 8104R), 1200 Pennsylvania Avenue NW., Washington, DC 20460 at (202) 564-3408.

SUPPLEMENTARY INFORMATION: Proposed agenda items include, but are not limited to: discussion of ORD mercury, global change, and endocrine disruptors multi-year plans; update on ORD's computational toxicology plan; briefing on the reorganization of EPA's Science Advisory Board; briefing on public health outcomes; briefing on EPA's Science Inventory; and discussion of BOSC future issues and plans. The meeting is open to the public. Any member of the public interested in receiving a draft BOSC agenda or making a presentation at the meeting should contact Lorelei Kowalski, Designated Federal Officer, by mail at Office of Research and Development (Mail Code 8104R), 1200 Pennsylvania Avenue NW., Washington, DC 20460, by e-mail at kowalski.lorelei@epa.gov, or by telephone at (202) 564-3408. In general, each individual making an oral presentation will be limited to a total of three minutes.

Information on Services for the Handicapped: Individuals requiring special accommodations at this meeting should contact Lorelei Kowalski, Designated Federal Officer, at (202) 564-3408, at least five business days prior to the meeting so that appropriate arrangements can be made to facilitate their participation.

Dated: December 18, 2003.
Kevin Y. Teichman,
Director, Office of Science Policy.

[FR Doc. 03-31705 Filed 12-23-03; 8:45 am]

BILLING CODE 6560-50-P